ENVIRONMENTAL PROTECTION AGENCY

40 CFR Part 52

[EPA-R06-OAR-2010-0775; FRL-9281-2]

Approval and Promulgation of Air Quality Implementation Plans; Louisiana; Revisions To Control Volatile Organic Compound Emissions for Surface Coatings and Graphic Arts

AGENCY: Environmental Protection Agency (EPA).

ACTION: Proposed rule.

SUMMARY: EPA is proposing to approve State Implementation Plan (SIP) revisions for control of volatile organic compounds (VOCs) adopted by Louisiana on June 20, 2009 and August 20, 2010, and submitted to EPA on August 31, 2010. EPA is also proposing to approve a SIP revision for control of emission of organic compounds which was proposed by Louisiana on January 20, 1011. EPA issued Control Techniques Guidelines (CTGs) in 2006, 2007 and 2008; Louisiana's rule revisions being proposed for approval in this action were developed in response to these CTGs. Because Louisiana has not yet finalized the January 20th revision to the VOC rules, we are proposing to approve this SIP revision in parallel with Louisiana's rulemaking activities. If the final version of the VOC rule adopted by Louisiana is changed from the proposed version which is being “parallel processed” today, EPA will withdraw this rulemaking and propose a new rulemaking with the final VOC rule adopted by Louisiana. If there are no changes to the “parallel-processed” version, EPA will proceed with final rulemaking on the version finally adopted by Louisiana and submitted to EPA. EPA is proposing to approve these revisions because they enhance the Louisiana SIP by improving VOC emission controls in Louisiana. EPA is also proposing to find that these revisions meet Reasonably Available Control Technology (RACT) requirements. These revisions meet statutory and regulatory requirements, and are consistent with EPA's guidance. This action is being taken under section 110 and part D of the Clean Air Act (CAA).

DATES: Comments must be received on or before April 18, 2011.

ADDRESSES: Submit your comments, identified by Docket ID No. EPA-R06-OAR-2010-0775, by one of the following methods:

• Federal Rulemaking Portal: http://www.regulations.gov. Follow the on-line instructions for submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2010-0775. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a fee of 15 cents per page for making photocopies of documents. On the day of the visit, please check in at the EPA Region 6 reception area at 1445 Ross Avenue, Suite 700, Dallas, Texas.

The State submittal, which is part of the EPA record, is also available for public inspection at the State Air Agency listed below during official business hours by appointment: Louisiana Department of Environmental Quality, 602 North Fifth Street, Baton Rouge, LA 70802.

FOR FURTHER INFORMATION CONTACT: Ms. Ellen Belk, Air Planning Section (6PD-L), Environmental Protection Agency, Region 6, 1445 Ross Avenue, Suite 700, Dallas, Texas 75202-2733, telephone (214) 665-2164; fax number 214-665-7263; e-mail address belk.ellen@epa.gov.

SUPPLEMENTARY INFORMATION: Throughout this document, “we,” “us,” and “our” means EPA.

Outline

I. What action is EPA proposing?

II. What is “parallel processing”, and why are we using it to process a Louisiana revision?

III. Why is EPA proposing this action?

IV. What are the requirements of Louisiana's VOC rule revisions?

V. Statutory and Executive Order Reviews

I. What action is EPA proposing?

EPA is proposing to approve SIP revisions for control of emission of organic compounds adopted by Louisiana on June 20, 2009, and August 20, 2010, and submitted to EPA on August 31, 2010. We are also proposing to approve, by parallel processing, a revision for control of emission of organic compounds proposed by Louisiana on January 20, 2010. The revisions submitted on August 31, 2010, are included as Appendices A and B of the LDEQ submittal entitled, “VOC RACT Control Technique Guidelines” dated August 2010. Together, these revisions include updates to the following Louisiana rules: Chapter 1 General Provisions, amendments to § 111 Definitions; Chapter 21 Control of Emission of Organic Compounds, amendments to § 2123 Organic Solvents, and § 2143 Graphic Arts (Printing) by Rotogravure, Flexographic, Offset Lithographic, Letterpress, and Flexible Package Printing Processes. Also, EPA is proposing to approve, by parallel processing, the VOC rule revision proposed January 20, 2011, which is a small wording change. In a letter to EPA dated February 7, 2011, the State of Louisiana requested “parallel processing” and a provided a schedule for final adoption of this VOC rule revision.

We are proposing to approve these revisions because they enhance the Louisiana SIP by improving control of emissions from VOC sources in Louisiana. These revisions reflect changes in response to CTGs issued in 2006, 2007 and 2008: Consumer and Commercial Products Group II: Control Techniques Guidelines in Lieu of Regulations for Flexible Packaging Printing Materials, Lithographic Printing Materials, Letterpress Printing Materials, Industrial Cleaning Solvents, and Flat Wood Paneling Coatings (71 FR 58745, October 5, 2006); Consumer and Commercial Products: Control Techniques Guidelines in Lieu of Regulations for Paper, Film, and Foil Coatings; Metal Furniture Coatings; and Large Appliance Coatings (72 FR 57215, October 9, 2007); Consumer and Commercial Products, Group IV: Control Techniques guidelines in Lieu of Regulations for Miscellaneous Metal Products Coatings, Plastic Parts Coatings, Auto and Light-Duty Truck Assembly coatings, Fiberglass Boat Manufacturing Materials, and Miscellaneous Industrial Adhesives (73 FR 58481, October 7, 2008).

In addition, we are proposing that these revisions meet RACT requirements for these source categories. These revisions meet statutory and regulatory requirements, and are consistent with EPA's guidance. EPA is proposing approval of these revisions pursuant to section 110 and part D of the CAA.

II. What is “parallel processing”, and why are we using it to process a Louisiana revision?

At the request of the State of Louisiana, approval of its revision, published in the Louisiana Register January 20, 2011, is being proposed under a procedure called “parallel processing” whereby EPA proposes rulemaking action concurrently with the State's procedures for amending its regulations (40 CFR part 51, Appendix V, section 2.3).

Under parallel processing, EPA proposes rulemaking action concurrently with the State's proposed rulemaking. If the State's proposed revision is changed, EPA will evaluate that subsequent change and may publish another notice of proposed rulemaking. If no change is made, EPA will publish a final rulemaking on the revisions after responding to any submitted comments. Final rulemaking action by EPA will occur only after the SIP revision has been fully adopted by Louisiana and submitted formally to EPA for incorporation into the SIP. In addition, any action by the State resulting in undue delay in the adoption of the rules may result in a re-proposal, altering the approvability of this SIP revision. The parallel processing of the January 20, 2011 revision is appropriate because it accommodates a minor wording change and no further change is anticipated. The State's January 20, 2011, proposed revision and their letter of February 7, 2011 are available in the docket for this action.

III. Why is EPA proposing this action?

A primary purpose of these rules is to improve control of VOC emissions in various parishes in Louisiana. Our approval of the revised Louisiana regulations will make them federally enforceable. Also, these rules satisfy the requirement to adopt VOC RACT rules for the CTG documents issued by EPA in 2006, 2007, and 2008.

These revised requirements for control of VOC emissions will help to attain and maintain the 8-hour ozone standard in Louisiana parishes. These rules satisfy in part the requirement in the Clean Air that VOC RACT rules be adopted for ozone nonattainment areas. This includes the Baton Rouge 8-hour ozone nonattainment area. Sections 172(c)(1) and 182 of the Act require areas that are classified as moderate or above for ozone nonattainment to adopt RACT requirements for sources that are subject to CTGs issued by EPA and for “major sources” of VOCs and nitrogen oxides (NOX), which are ozone precursors. See 42 U.S.C. sections 7502 (c)(1) and 7511a (b) and (f). RACT is defined as the lowest emissions limitation that a particular source is capable of meeting by the application of control technology that is reasonably available considering technological and economic feasibility (44 FR 53762; September 17, 1979). A CTG provides information on the available controls for a source category and provides information about RACT for the category.

As discussed previously, EPA issued new CTGs in 2006, 2007 and 2008. EPA has reviewed Louisiana's new VOC rule revisions with respect to RACT requirements and the recommendations in the new CTGs and proposes to find that these revisions meet RACT. Based on our analysis, we find that these VOC rule revisions enhance the SIP by providing clarification and additional control requirements for reducing emissions from volatile organic compounds, and also that these revisions meet RACT requirements. EPA is proposing to find that for the CTG categories included in this rule-making, Louisiana has RACT-level controls. Additional information about RACT and EPA's evaluation of Louisiana's rule revisions for RACT for this action is provided in the TSD, including TSD Appendix B.

In a related but separate rulemaking, EPA plans to evaluate the RACT/RACM submittal provided by Louisiana on August 31, 2010. This will include analysis of RACT for NOX and also for VOC categories other than those included here, as well as RACT for non-major sources.

IV. What are the requirements of Louisiana's VOC rule revisions?

This proposed approval of Louisiana's VOC rule revisions affects Louisiana's rules in both Chapter 1 General Provisions and Chapter 21 Control of Emission of Organic Compounds, specifically Chapter 1 § 111 Definitions, Chapter 21 Subchapter B. Surface Coatings § 2123 Organic Solvents, and Subchapter H. Graphic Arts § 2143 Graphic Arts (Printing) by Rotogravure, Flexographic, Offset Lithographic, Letterpress, and Flexible Package Printing Processes. Applicability under these rules includes requirements that vary by parish, and is briefly discussed below. Louisiana's Chapter 1 definitions, and Chapter 21 controls for VOC emissions, cover many categories of sources. This rulemaking affects sources covered by the Louisiana Administrative Code (LAC) Chapters and Subchapters listed in the following table. However, to determine whether a specific facility in a Louisiana parish will be affected by one or more of the above revisions, please see Louisiana's associated rule revisions included in the docket.

Louisiana Administrative Code (LAC) 33: III.111, 2123, and 2143 Chapters and Subchapters Affected by This Rulemaking
| Chapter 1 General Provisions
Chapter 1 General Provisions
111. Definitions
Chapter 21 Control of Emission of Organic Compounds
Subchapter B Surface Coatings
§ 2123 Organic Solvents
Subchapter H Graphic Arts
§ 2143 Graphic Arts (Printing) by Rotogravure, Flexographic, Offset Lithographic, Letterpress, and Flexible Package Printing Processes

A brief description of the Louisiana VOC rules for surface coating and for graphic arts that are proposed for approval in this action is provided below. This description contains information on applicability, control requirements and relevant EPA guidance. Compliance with these rules is required by the State no later than one year from the promulgation of the regulation revision. Additional detail regarding Louisiana's VOC regulations proposed for approval in this action is provided in the TSD.

Surface Coating Regulations

Louisiana's surface coating regulations being proposed for approval in this action include requirements for applicability, emissions limits, control techniques, and work practices. These regulations are based on and are consistent with the relevant 2006, 2007, and 2008 CTGs. For example, the requirements for applicability for the surface coating rules, specified in LAC 2123.A., apply to sources in any parish with emissions of VOCs resulting from the application of surface coatings equal to or more than 15 pounds (6.8 kilograms) per day, or an equivalent level of 2.7 tons per 12 month rolling period (LAC 2123.A.).

The categories of Louisiana's surface coating regulations being proposed for approval in this action are identified below (for more information, please see Louisiana's regulations, and the TSD in the docket for this proposal).

Flat Wood Paneling; LAC 2123. These regulations have been revised based on and consistent with EPA's 2006 Control Techniques Guidelines for Flat Wood Paneling Coatings. Emission limits are consistent with the CTG (LAC 2123.C.13), as is the efficiency limit required if add-on controls are used (the VOC capture and abatement system shall be at least 90 percent efficient overall, LAC 2123.D.1).

Large Appliance Coatings; LAC 2123. These regulations have been revised based on and consistent with EPA's 2007 Control Techniques Guidelines for Large Appliance Coatings. Emission limits are consistent with the CTG (LAC 2123.C.1), as is the efficiency limit required if add-on controls are used (the VOC capture and abatement system shall be at least 90 percent efficient overall, LAC 2123.D.1).

Metal Furniture Coatings; LAC 2123. These regulations have been revised based on and consistent with EPA's 2007 Control Techniques Guidelines for Metal Furniture Coatings. Emission limits are consistent with the CTG (LAC 2123.C.6), as is the efficiency limit required if add-on controls are used (the VOC capture and abatement system shall be at least 90 percent efficient overall, LAC 2123.D.1).

Paper, Film, and Foil Coatings; LAC 2123. These regulations have been revised based on and consistent with EPA's 2007 Control Techniques Guidelines for Paper, Film, and Foil Coatings. Emission limits are consistent with the CTG (LAC 2123.C.15), as is the efficiency limit required if add-on controls are used (the VOC capture and abatement system shall be at least 90 percent efficient overall, LAC 2123.D.1).

Miscellaneous Metal and Plastic Parts Coatings; LAC 2123. These regulations have been revised based on and consistent with EPA's 2008 Control Techniques Guidelines for Miscellaneous Metal Products Coatings and Plastic Parts Coatings. Emission limits are consistent with the CTG (LAC 2123.C.7 and 8), as is the efficiency limit required if add-on controls are used (the VOC capture and abatement system shall be at least 90 percent efficient overall, LAC 2123.D.1).

Automobile and Light-Duty Truck Assembly Coatings; LAC 2123. These regulations have been revised based on and consistent with EPA's 2008 Control Techniques Guidelines for Auto and Light-Duty Truck Assembly Coatings. Emission limits are consistent with the CTG (LAC 2123.C.16), as is the use of EPA's revised Automobile Topcoat Protocol (LAC 2123.D.4).

Industrial Cleaning Solvents; LAC 2123. These new regulations are based on and consistent with EPA's 2006 Control Techniques Guidelines for Industrial Cleaning Solvents. Control techniques for the use of industrial cleaning solvents are consistent with the CTG (LAC 2123. D. 10), as is the efficiency limit required if add-on controls are used (the VOC capture and abatement system shall be at least 85 percent efficient overall, LAC 2123. D. 1).

Miscellaneous Industrial Adhesives; LAC 2123. These new regulations are based on and consistent with EPA's 2006 Control Techniques Guidelines for Miscellaneous Industrial Adhesives (73 FR 58481, October 7, 2008). Methods for applying adhesives are consistent with the CTG (LAC 2123. D. 13), and if add-on controls are used for industrial cleaning solvents, the VOC capture and abatement system shall be at least 85 percent efficient overall (LAC 2123. D. 1).

Fiberglass Boat Manufacturing Materials; LAC 2123. These new regulations are based on and consistent with EPA's 2008 Control Techniques Guidelines for Fiberglass Boat Manufacturing Materials. Emission limits are consistent with the CTG (LAC 2123. C. 18), as are VOC content and vapor pressure limits applicable to cleaning activities in fiberglass boat manufacturing (LAC 2123 D. 12).

Graphic Arts

Louisiana's graphic arts regulations being proposed for approval in this action include applicability and control requirements, and are based on and are consistent with the relevant 2006 CTGs. For example, the requirements for applicability for the graphic arts rules, specified in 2143. B., apply to sources in any parish with the potential to emit, on an uncontrolled basis at full production, a combined weight of VOCs greater than 100 tons per year (tpy). In Ascension, East Baton Rouge, Iberville, Livingston, Point Coupee and West Baton Rouge parishes, the rules apply to any facility with the potential to emit a combined weight of VOCs greater than 50 tpy.

The categories of Louisiana's graphic arts regulations being proposed for approval in this action are identified below (for more information, please see Louisiana's regulations, and the TSD in the docket for this proposal).

Lithographic Printing and Letterpress Printing; LAC 2143. These new regulations are based on and consistent with EPA's 2006 Control Techniques Guidelines for Lithographic Printing Materials, and Letterpress Printing Materials.

Flexible Package Printing; LAC 2143. These regulations have been revised based on and consistent with EPA's 2006 Control Techniques Guidelines for Flexible Packaging Printing Materials.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely proposes to approve State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Ozone, Nitrogen dioxides, Reporting and recordkeeping requirements, Volatile organic compounds.

Authority: 42 U.S.C. 7401 et seq.

Dated: March 5, 2011.
Al Armendariz,
Regional Administrator, Region 6.

[FR Doc. 2011-6224 Filed 3-16-11; 8:45 am]

BILLING CODE 6560-50-P